DEPARTMENT OF EDUCATION

[Docket No.: ED-2021-SCC-0105]

Agency Information Collection Activities; Submission to the Office of Management and Budget for Review and Approval; Comment Request; Fulbright-Hays Group Projects Abroad Long-Term Participant Survey

AGENCY: Office of Postsecondary Education (OPE), Department of Education (ED).

ACTION: Notice.

SUMMARY: In accordance with the Paperwork Reduction Act of 1995, ED is proposing a new collection.

DATES: Interested persons are invited to submit comments on or before November 17, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Cory Neal, (202) 453-6137.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fulbright-Hays Group Projects Abroad Long-Term Participant Survey.

OMB Control Number: 1840-NEW.

Type of Review: New collection.

Respondents/Affected Public: Private Sector.

Total Estimated Number of Annual Responses: 90.

Total Estimated Number of Annual Burden Hours: 23.

Abstract: Grants awarded under the Fulbright-Hays Group Projects Abroad program provide opportunities for faculty, teachers, and undergraduate and graduate students to participate in research, language training, and curriculum development projects overseas in the fields of modern foreign languages and area studies. The Group Projects Abroad (GPA) Long-Term projects are designed to take advantage of advanced foreign language training opportunities present in the country of study that may not available in the United States. The purpose of this survey is to collect data demonstrating how GPA Long-Term alumni are utilizing their language training in their degree programs and careers in the time since they participated in the GPA program.

Dated: October 12, 2021.
Kate Mullan,
PRA Coordinator, Strategic Collections and Clearance, Governance and Strategy Division, Office of Chief Data Officer, Office of Planning, Evaluation and Policy Development.

[FR Doc. 2021-22561 Filed 10-15-21; 8:45 am]

BILLING CODE 4000-01-P